DEPARTMENT OF TRANSPORTATION

Federal Highway Administration

Environmental Impact Statement: Strafford and Rockingham County, New Hampshire

AGENCY: Federal Highway Administration (FHWA), DOT.

ACTION: Notice of intent.

SUMMARY: The FHWA is issuing this notice to advise the public that a Supplemental Environmental Impact Statement (SEIS) will be prepared to re-evaluate a reasonable range of transportation alternatives associated with the General Sullivan Bridge (GSB) for maintaining access for pedestrians and bicyclists across Little Bay in Newington and Dover, New Hampshire, thereby retaining this regional connectivity in northern coastal New Hampshire.

FOR FURTHER INFORMATION CONTACT: Mr. Jamie Sikora, New Hampshire Division, Federal Highway Administration, 53 Pleasant Street, Suite 2200, Concord, New Hampshire 03301, Telephone: (603) 410-4870. Mr. Kevin Nyhan, Administrator, Bureau of Environment, New Hampshire Department of Transportation, 7 Hazen Drive, JOM Building Room 160, Concord, New Hampshire 03302-0483, Telephone: (603) 271-3226.

SUPPLEMENTARY INFORMATION: FHWA, in cooperation with the New Hampshire Department of Transportation (NHDOT), prepared a Draft EIS and Final EIS [NHS-027-1(37), 11238, December 2007] for proposed improvements to a 3.5-mile section of the Spaulding Turnpike extending north from the Gosling Road/Pease Boulevard Interchange (Exit 1) in the Town of Newington, across the Little Bay Bridges, to a point just south of the existing Toll Plaza in the City of Dover. Consistent with the National Environmental Policy Act (NEPA) regulations, the U.S. Army Corps of Engineers, U.S. Environmental Protection Agency, U.S. Fish and Wildlife Service, National Marine Fisheries Service, U.S. Coast Guard, Federal Aviation Administration, N.H. Department of Environmental Services, N.H. Fish and Game Department, N.H. Office of Energy and Planning, and N.H. Division of Historical Resources were cooperating agencies in preparing the Draft EIS and Final EIS.

In October 2008, FHWA issued a Record of Decision (ROD) (FHWA-NH-EIS-06-01-F) following the Final EIS for the Spaulding Turnpike Improvements Project (known as Newington-Dover Project). The ROD proposed to rehabilitate the GSB so that it could continue to serve as a connection for pedestrians and bicyclists across Little Bay and to provide recreational access for fishing. Following the ROD, NHDOT prepared a Type, Size and Location Study which, in part, provided additional information on the condition of the GSB and evaluated the feasibility of rehabilitating the bridge. Based upon the results of the study, NHDOT determined that it was necessary and reasonable to consider alternatives to the proposed rehabilitation.

On August 17, 2017, NHDOT requested that FHWA reopen the FEIS for a specific review of alternatives for the GSB and, on September 5, 2017, FHWA responded in support of NHDOT's request to re-evaluate the reasonable range of transportation alternatives associated with the GSB for maintaining access for pedestrians and bicyclists across Little Bay.

FHWA is initiating a limited scope SEIS pursuant to 23 CFR 771.130 and 40 CFR 1502.9 to evaluate additional alternatives for the Newington-Dover Project; specifically, evaluating the social, economic and environmental effects of reasonable transportation alternatives for maintaining access for pedestrians and bicyclists across the Little Bay in Newington and Dover, New Hampshire, thereby retaining a regional connection in northeastern coastal New Hampshire. Since issues and concerns related to the broader Newington-Dover Project are well known and reported in the Draft and Final EIS, formal scoping will not be conducted.

FHWA will be inviting agencies to become cooperating or participating agencies for the SEIS, including agencies that may have not been cooperating or participating agencies for the Draft and Final EIS. In addition, FHWA and NHDOT will invite participation from tribes, organizations and individuals on the SEIS. Written and verbal comments on the Draft SEIS will be taken by email, through the project website http://www.newington-dover.com/gsb_subsite/index.html, at public informational meetings and hearing. Public notice will be given on the time and location of these meetings.

(Catalog of Federal Domestic Assistance Program Number 20.205, Highway Planning and Construction. The regulations implementing Executive Order 12372 regarding intergovernmental consultation on Federal programs and activities apply to this program.)

Issued on: January 8, 2018.
Cynthia Vigue,
Assistant Division Administrator, Federal Highway Administration, Concord, New Hampshire.

[FR Doc. 2018-00785 Filed 1-17-18; 8:45 am]

BILLING CODE 4910-22-P